DEPARTMENT OF COMMERCE

Foreign-Trade Zones Board

[Order No. 1389]

Expansion of Foreign-Trade Zone 154, Baton Rouge, LA, Area

Pursuant to its authority under the Foreign-Trade Zones Act of June 18, 1934, as amended (19 U.S.C. 81a-81u), the Foreign-Trade Zones Board (the Board) adopts the following Order:

Whereas, the Greater Baton Rouge Port Commission, grantee of Foreign-Trade Zone (FTZ) 154, submitted an application to the Board for authority to expand FTZ 154 to include a site (120 acres) within the 155-acre St. Martin Parish Industrial Park located near St. Martinville, Louisiana (Site 5), adjacent to the Baton Rouge Customs port of entry (FTZ Docket 29-2004; filed 7/28/04); Whereas, notice inviting public comment was given in the Federal Register (69 FR 47865, 8/6/04) and the application has been processed pursuant to the FTZ Act and the Board's regulations; and,

Whereas, the Board adopts the findings and recommendations of the examiner's report, and addendum report, and finds that the requirements of the FTZ Act and Board's regulations would be satisfied, and that the proposal would be in the public interest;

Now, therefore, the Board hereby orders:

The application to expand FTZ 154 to include a site (designated as FTZ 154—Site 5) is approved, subject to the Act and the Board's regulations, including Section 400.28, and subject to the conditions and restrictions listed below:

1. The approval for FTZ 154—Site 5 is for an initial period of five years (to April 30, 2010) subject to extension upon review.

2. The applicant is required to submit annually special reports on developments at FTZ 154—Site 5, including information relating to changes in the site status or plans, changes in ownership, new activity under zone procedures, and other relevant information as directed by the FTZ Board's Executive Secretary.

3. The site will be subject to special monitoring visits by the FTZ staff.

4. Activation at the general-purpose zone project overall is subject to the Board's standard 2,000-acre limit.

Signed at Washington, DC, this 9th day of May, 2005.
Joseph A. Spetrini,
Acting Assistant Secretary of Commerce for Import Administration, Alternate Chairman, Foreign-Trade Zones Board.
ATTEST:
Dennis Puccinelli,
Executive Secretary.

[FR Doc. 05-10029 Filed 5-19-05; 8:45 am]

BILLING CODE 3510-DS-P